ENVIRONMENTAL PROTECTION AGENCY

[FRL-6843-4]

Notice of Prevention of Significant Deterioration (PSD) Final Determination for RockGen Energy Center, Town of Christiana, Dane County, Wisconsin

AGENCY: Environmental Protection Agency (EPA).

ACTION: Notice of final action.

SUMMARY: The purpose of this notice is to announce that on March 3, 2000, the Environmental Appeals Board (EAB) of the United States Environmental Protection Agency (EPA) dismissed a petition for review of a revised permit issued for the RockGen Energy Center by the Wisconsin Department of Natural Resources (WDNR) pursuant to the Prevention of Significant Deterioration of Air Quality (PSD) regulations under 40 CFR 52.21.

DATES: The effective date for the Board's decision is March 3, 2000. Judicial review of this permit decision, to the extent it is available pursuant to section 307(b)(1) of the Clean Air Act, may be sought by filing a petition for review in the United States Court of Appeals for the Seventh Circuit within 60 days of today's date.

ADDRESSES: The documents relevant to the above action are available for public inspection during normal business hours at the following address by calling Raj Vakharia at (608) 267-2015 to arrange a visit: Department of Natural Resources, Bureau of Air Management, 101 South Webster Street, 7th Floor, Madison, WI.

FOR FURTHER INFORMATION CONTACT: Mr. Constantine Blathras (AR-18J), United States Environmental Protection Agency, Region 5, 77 West Jackson Boulevard, Chicago, Illinois 60604, at (312) 886-0671.

SUPPLEMENTARY INFORMATION: On January 25, 1999, the WDNR issued PSD permit 98-RV-150 to RockGen Energy Center for the construction of a new 525 MW electric power generating facility in the Town of Christiana, Dane County, Wisconsin. The facility will include three 175-MW simple cycle combustion turbines using natural gas as a primary fuel and low sulfur No. 2 fuel oil as a back-up. The facility is subject to PSD for nitrogen oxides (NOX) and carbon monoxide (CO).

On April 5, 1999, the Responsible Use of Rural and Agricultural Land (RURAL) petitioned the EAB to review this permit alleging: (i) WDNR's selection of BACT for NOX was clearly erroneous; (ii) WDNR abused its discretion by failing to consider demand side management alternatives to the construction of the facility; (iii) WDNR's characterization of the facility as a “peak power generating facility” and its inclusion in the final permit of a continuous emission monitoring (CEM) exemption provision are inconsistent with applicable regulations; (iv) the start-up and shut-down provision in the final permit is not federally enforceable; and (5) WDNR failed to adequately reply to written comments on the draft permit or to explain changes to the draft permit.

On June 11, 1999, EPA filed an Amicus Brief that commented on (i) WDNR's BACT analysis, (ii) WDNR's conclusion that DLN was technically feasible as a control option, (iii) the permit provision regarding emissions during start-up and shutdown, and (iii) demand-side management or other alternatives.

On August 25, the EAB issued its order remanding the permit as to (i) the conditions under which NOX estimation procedures may be used in lieu of CEM, (ii) the permit provision relating to exceedances of the permit's emission limitations during start-up or shutdown of the facility, and (iii) WDNR's reply to written comments, and denying review as to the BACT determination issue and the demand-side alternatives issue, which were not properly preserved for review, and all other issues raised in the petition.

On October 15, 1999, WDNR issued revised permit 98-RV-150-R1 to RockGen Energy Center and a revised response to comments. The revised permit strikes the permit condition concerning exceedances of emissions limits during start-up and shut-down and amends the permit conditions under which NOX estimation procedures may be used in lieu of CEM to reflect the language of applicable regulatory language under 40 CFR 72.2.

RURAL filed a petition for review of the revised permit on November 17, 1999, alleging that WDNR erroneously refused to consider the opposition of local and county zoning authorities to the permit. On March 3, 2000, the EAB denied the petition for review on the grounds that the issue had not been properly preserved.

Dated: July 21, 2000.
Francis X. Lyons,
Regional Administrator, Region 5.

[FR Doc. 00-19374 Filed 7-31-00; 8:45 am]

BILLING CODE 6560-50-P